DEPARTMENT OF COMMERCE

National Oceanic and Atmospheric Administration

[I.D. 050906D]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a joint meeting of its Habitat and Environmental Protection Advisory Panel and Coral Advisory Panel in Coconut Grove, FL.

DATES: The joint meeting will take place June 7-9, 2006. See SUPPLEMENTARY INFORMATION for specific dates and times.

ADDRESSES: The meeting will be held at the Wyndham Grand Bay Hotel, 2669 South Bayshore Drive, Coconut Grove, FL 33133; telephone: (800) 996-3426 or (305) 858-9600; fax: (305) 859-2026.

Council address: South Atlantic Fishery Management Council, One Southpark Circle, Suite 306, Charleston, SC 29407-4699.

FOR FURTHER INFORMATION CONTACT: Kim Iverson, Public Information Officer; telephone: (843) 571-4366 or toll free (866) SAFMC-10; fax: (843) 769-4520; email: kim.iverson@safmc.net.

SUPPLEMENTARY INFORMATION: Members of the Habitat AP and Coral AP will meet from 1 p.m. - 5 p.m. on June 7, 2006, from 8:30 a.m. - 5 p.m. on June 8, 2006, and from 8:30 a.m. - 1 p.m. on June 9, 2006.

The joint meeting is being convened to continue the Council's integrated process to update Essential Fish Habitat information and consider ecosystem-based management through the development of a Fishery Ecosystem Plan (FEP) for the South Atlantic Region.

Items for discussion at the joint panel meeting include: (1) Review and approval of a draft research and monitoring plan for deepwater coral ecosystems in the South Atlantic; (2) Review and comment on a preliminary draft of the South Atlantic Fishery Ecosystem Plan; (3) Review of refined proposed deepwater Coral Habitat Areas of Particular Concern and other possible measures for development of the Council's Comprehensive Ecosystem Amendment to the FEP; (4) Update on the Habitat and Ecosystem Page and Internet Map Server development; (5) Review and comment on Amendment 14 to the Snapper Grouper Fishery Management Plan addressing marine protected areas; (6) Development of an offshore aquaculture policy statement; (7) Energy development proposals for the South Atlantic region; (8) Southeast Aquatic Resources Partnership; and (9) Status of regional Ocean Observing Systems development and management.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Note: The times and sequence specified in this agenda are subject to change.

Special Accommodations

These meetings are physically accessible to people with disabilities. Requests for auxiliary aids should be directed to the Council office (see ADDRESSES) 3 days prior to the meetings.

Dated: May 10, 2006.
Tracey L. Thompson,
Acting Director, Office of Sustainable Fisheries, National Marine Fisheries Service.

[FR Doc. E6-7341 Filed 5-12-06; 8:45 am]

BILLING CODE 3510-22-S